NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: November 1, 2018; 1:00 p.m.-5:30 p.m., November 2, 2018; 8:30 a.m.-2:00 p.m.

Place: National Science Foundation, 2415 Eisenhower Avenue, Room E 2030, Alexandria, Virginia 22314.

Type of Meeting: Open.

Contact Person: Andrew Backe, National Science Foundation, 2415 Eisenhower Avenue, Room W 7237, Alexandria, Virginia 22314; Telephone (703) 292-2454.

Minutes: May be obtained from the contact person listed above.

Purpose of Meeting: To provide advice and recommendations to the National Science Foundation concerning support for polar research, education, infrastructure and logistics, and related activities.

Agenda

November 1, 2018; 1:00 p.m.-5:30 p.m.

• Opening Remarks and Introductions

• Safety Discussion

• Arctic Portfolio Review Update

• Polar Research Vessel Requirements Update

• Multidisciplinary Drifting Observatory for the Study of Arctic Climate (MOSAiC) Update

November 2, 2018; 8:30 a.m.-2:00 p.m.

• Antarctic Infrastructure Modernization for Science (AIMS) Update

• OISE's Recent Efforts/NSF International Strategic Visioning Document

• Meeting with the NSF Director and COO

• Polar Document Review

• Wrap-up and Actions

Dated: September 24, 2018.
Crystal Robinson,
Committee Management Officer.

[FR Doc. 2018-21036 Filed 9-26-18; 8:45 am]

BILLING CODE 7555-01-P